DEPARTMENT OF THE INTERIOR

National Park Service

[2253-665]

Notice of Inventory Completion: California State Department of Transportation (Caltrans), Sacramento, CA, and California State University, Sacramento, CA

AGENCY: National Park Service, Interior.

ACTION: Notice.

Notice is here given in accordance with the Native American Graves Protection and Repatriation Act (NAGPRA), 25 U.S.C. 3003, of the completion of an inventory of human remains and associated funerary objects in the control of the California Department of Transportation (Caltrans), Sacramento, CA, and in the possession of California State University, Sacramento, CA. The human remains and associated funerary objects were removed from Site CA-SJO-91, also known as French Camp Slough Site, San Joaquin County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

A detailed assessment of the human remains was made by California State University, Sacramento, and Caltrans professional staff in consultation with representatives of the Buena Vista Rancheria of Me-Wuk Indians of California; Ione Band of Miwok Indians of California; and Santa Rosa Indian Community of the Santa Rosa Rancheria, California (also known as the Tachi Yokut Tribe), as well as the non-Federally recognized Indian groups: The Southern Sierra Miwoks of California, Northern Valley Yokuts, and Tubatulabals of Kern Valley. The Chicken Ranch Rancheria of Me-Wuk Indians of California; Picayune Rancheria of the Chukchansi Indians of California; Table Mountain Rancheria of California; Tule River Indian Tribe of the Tule River Reservation, California; and Wilton Rancheria, California, were also contacted, but did not participate in consultation about the human remains and associated funerary objects described in this notice.

In 1970, human remains representing 498 individuals were removed from CA-SJO-91 on private property, in San Joaquin County, CA, during a salvage excavation project. Faculty and students from what was then Sacramento State College (now California State University, Sacramento) were brought in by the California Division of Highways (now California Department of Transportation [Caltrans]) to conduct salvage excavations. No known individuals were identified. The 4,667 associated funerary objects are 3,967 beads, 16 bifaces, 4 pieces of charcoal, 1 charmstone fragment, 1 silicate core, 2 lots of debitage, 490 faunal bones, 2 flake tools, 61 tule mat impressions, 20 modified bones, 1 modified shell, 2 modified stones, 20 pieces of ochre, 14 ornaments, 3 pestles, 20 projectile points, 35 quartz crystals and pebbles, 6 soil samples, and 2 whistles. In addition, there are 187 missing associated funerary objects (156 beads, 1 piece of charcoal, 1 igneous core, 15 lots of debitage, 5 faunal bones, 1 flake tool, 1 modified bone, 1 quartz rock, 1 steatite ring, and 5 bone whistles).

Multiple lines of evidence were used to determine the cultural affiliation of the CA-SJO-91 collection. Archeological evidence indicates that the site was occupied from the Early Horizon through the Late Horizon. Most of the burials were in two cemeteries that were located 60 meters apart. Other burials were located between the two cemeteries or are of uncertain horizontal provenience due to construction activities. Cemetery I was radiometrically dated to between 1845±90 and 2985±160 years B.P. The burial patterns and artifact types in Cemetery I correspond to a transitional time period between the Early Horizon and Middle Horizon time periods. Cemetery II was not radiometrically dated. Based on mode of interment and artifact types, Cemetery II burials date slightly earlier to the Early Horizon, although there are similarities in constituents between the two cemeteries. A Late Horizon component (1500 B.P. to European contact) at CA-SJO-91 was essentially removed by construction activities before salvage excavations began.

Biological, archeological, and linguistic evidence indicate that population movement occurred between the Early and Middle Horizon in the French Camp Slough area. It may be that the individuals buried in the Early Horizon Cemetery II represent an earlier, Utian speaking people (linguistic evidence supports a relationship of shared group identity between early Utian speaking peoples and contemporary Miwok tribes), while the individuals in the Middle Horizon Cemetery I may represent a more recent pre-Yokut speaking people. Historical and geographical lines of evidence indicate that CA-SJO-91 lies on the border of the traditional territory of the Plains Miwok and the Northern Valley Yokuts. At the time of first contact with Spanish missionaries in the early 19th century, the area is thought to have been occupied by the Passasime, a Northern Valley Yokuts people who were also related to the Plains Miwok. Oral and documentary evidence provided by representatives of Indian tribes during consultation demonstrates an inter-relationship between Northern Valley Yokuts and Plains Miwok tribes.

Based on the geographic, linguistic, archeological, and ethnographic evidence, as well as oral and documentary evidence presented during consultations, Caltrans and California State University, Sacramento, including the University's College of Social Sciences and Interdisciplinary Studies Committee on Native American Graves Protection and Repatriation Act Compliance (SSIS NAGPRA Committee), reasonably believe that the cultural affiliation of CA-SJO-91 is to the Plains Miwok and Northern Valley Yokuts.

Officials of California State University, Sacramento, and Caltrans have determined pursuant to 25 U.S.C. 3001(9), that the human remains described above represent a minimum of 498 individuals of Native American ancestry. Officials of California State University, Sacramento, and Caltrans also have determined, pursuant to 25 U.S.C. 3001(3)(A), that the 4,667 objects described above are reasonably believed to have been placed with or near individual human remains at the time of death or later as part of the death rite or ceremony. Lastly, officials of California State University, Sacramento, and Caltrans have determined, pursuant to 25 U.S.C. 3001(2), that there is a relationship of shared group identity that can be reasonably traced between the Native American human remains and associated funerary objects and the Buena Vista Rancheria of Me-Wuk Indians of California; California Valley Miwok Tribe, California; Chicken Ranch Rancheria of Me-Wuk Indians of California; Ione Band of Miwok Indians of California; Jackson Rancheria of Me-Wuk Indians of California; Picayune Rancheria of the Chukchansi Indians of California; Santa Rosa Indian Community of the Santa Rosa Rancheria, California (also known as the Tachi Yokut Tribe); Shingle Springs Band of Miwok Indians, Shingle Springs Rancheria (Verona Tract), California; Table Mountain Rancheria of California; Tule River Indian Tribe of the Tule River Reservation, California; Tuolumne Band of Me-Wuk Indians of the Tuolumne Rancheria of California; United Auburn Indian Community of the Auburn Rancheria of California; and Wilton Rancheria, California, as well as to the non-Federally recognized Indian groups: the Southern Sierra Miwoks of California and Northern Valley Yokuts.

Representatives of any other Indian tribe that believes itself to be culturally affiliated with the human remains and associated funerary objects should contact Tina Biorn, Caltrans, P.O. Box 942874 (M.S. 27), Sacramento, CA 94274-0001, telephone (916) 653-0013, or Charles Gossett, Dean of the College of Social Sciences and Interdisciplinary Studies, California State University Sacramento, CA, 95819-6109, telephone (916) 278-6504, before April 14, 2011. Repatriation of the human remains and associated funerary objects to the Buena Vista Rancheria of Me-Wuk Indians of California; California Valley Miwok Tribe, California; Chicken Ranch Rancheria of Me-Wuk Indians of California; Ione Band of Miwok Indians of California; Jackson Rancheria of Me-Wuk Indians of California; Picayune Rancheria of the Chukchansi Indians of California; Santa Rosa Indian Community of the Santa Rosa Rancheria, California (also known as the Tachi Yokut Tribe); Shingle Springs Band of Miwok Indians, Shingle Springs Rancheria (Verona Tract), California; Table Mountain Rancheria of California; Tule River Indian Tribe of the Tule River Reservation, California; Tuolumne Band of Me-Wuk Indians of the Tuolumne Rancheria of California; United Auburn Indian Community of the Auburn Rancheria of California; and/or Wilton Rancheria, California, may proceed after that date if no additional claimants come forward.

California State University, Sacramento is responsible for notifying the Buena Vista Rancheria of Me-Wuk Indians of California; California Valley Miwok Tribe, California; Chicken Ranch Rancheria of Me-Wuk Indians of California; Ione Band of Miwok Indians of California; Jackson Rancheria of Me-Wuk Indians of California; Picayune Rancheria of the Chukchansi Indians of California; Santa Rosa Indian Community of the Santa Rosa Rancheria, California (also known as the Tachi Yokut Tribe); Shingle Springs Band of Miwok Indians, Shingle Springs Rancheria (Verona Tract), California; Table Mountain Rancheria of California; Tule River Indian Tribe of the Tule River Reservation, California; Tuolumne Band of Me-Wuk Indians of the Tuolumne Rancheria of California; United Auburn Indian Community of the Auburn Rancheria of California; and Wilton Rancheria, California, as well as the non-Federally recognized Indian groups: the Southern Sierra Miwoks of California, Northern Valley Yokuts, and Tubatulabals of Kern Valley, that this notice has been published.

Dated: March 9, 2011.
Sherry Hutt,
Manager, National NAGPRA Program.

[FR Doc. 2011-5871 Filed 3-14-11; 8:45 am]

BILLING CODE 4312-50-P